DEPARTMENT OF DEFENSE

GENERAL SERVICES ADMINISTRATION

NATIONAL AERONAUTICS AND SPACE ADMINISTRATION

[OMB Control No. 9000-0113; Docket 2016-0053; Sequence 43]

Submission for OMB Review; Acquisition of Helium

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division (MVCB) will be submitting to the Office of Management and Budget (OMB) a request to review and approve an extension of a previously approved information collection requirement concerning acquisition of helium. A notice was published in the Federal Register at 81 FR 83844 on November 22, 2016. No comments were received.

DATES: Submit comments on or before May 12, 2017.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov.

Submit comments via the Federal eRulemaking portal by searching the OMB control number 9000-0113. Select the link “Comment Now” that corresponds with “Information Collection 9000-0113, Acquisition of Helium”, Follow the instructions provided on the screen. Please include your name, company name (if any), and “Information Collection 9000-0113, Acquisition of Helium”, on your attached document.

• Mail: General Services Administration, Regulatory Secretariat Division (MVCB), 1800 F Street NW., Washington, DC 20405. ATTN: Ms. Sosa/IC 9000-0113, Acquisition of Helium.

Instructions: Please submit comments only and cite Information Collection 9000-0113, Acquisition of Helium, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Mahruba Uddowla, Procurement Analyst, Office of Governmentwide Acquisition Policy, GSA, via telephone 703-605-2868 or via email to mahruba.uddowla@gsa.gov.

SUPPLEMENTARY INFORMATION:

A. Purpose

The Helium Act (Pub. L. 86-777) (50 U.S.C. 167a, et seq.) and the Department of the Interior's implementing regulations (30 CFR parts 601 and 602) require Federal agencies to procure all major helium requirements from the Bureau of Land Management, Department of the Interior.

FAR 8.5, Acquisition of Helium, and the clause 52.208-8 Required Sources for Helium and Helium Usage Data, requires that the Contractor provide to the Contracting Officer the following data within 10 days after the Contractor or subcontractor receives a delivery of helium from a Federal helium supplier; (i) The name of the supplier; (ii) The amount of helium purchased; (iii) The delivery date(s); and (iv) the location where the helium was used. Such information will facilitate enforcement of the requirements of the Helium Act and the contractual provisions requiring the use of Government helium by agency contractors.

The information is used in administration of certain Federal contracts to ensure contractor compliance with contract clauses. Without the information, the required use of Government helium cannot be monitored and enforced effectively. The FAR requires that the contractor provide helium purchase information 10 days after delivery from a federal helium supplier, not for the contractor to forecast what they are going to purchase.

B. Annual Reporting Burden

In consultation with subject matter experts at the Department of the Interior, Bureau of Land Management, Helium Operations, the number of estimated responses per year was verified as being within an acceptable range, as was the average time required to read and prepare information which was estimated at 1 hour per response.

Respondents: 26.

Responses per Respondent: 1.

Total Responses: 26.

Hours per Response: 1.

Total Burden Hours: 26.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0113, Acquisition of Helium, in all correspondence.

Dated: April 6, 2017.
Lorin S. Curit,
Director, Federal Acquisition Policy Division, Office of Governmentwide Acquisition Policy, Office of Acquisition Policy, Office of Governmentwide Policy.

[FR Doc. 2017-07329 Filed 4-11-17; 8:45 am]

BILLING CODE 6820-EP-P